LEGAL SERVICES CORPORATION

Notice to LSC Grantees of Application Process for Subgranting 2020 Basic Field Funds

AGENCY: Legal Services Corporation.

ACTION: Notice of application dates and format for applications for approval to make subgrants of 2020 Basic Field Grant funds.

SUMMARY: The Legal Services Corporation (LSC) is the national organization charged with administering Federal funds provided for civil legal services to low-income people. LSC hereby announces the submission dates for applications for subgrants of 2020 Basic Field Grant funds. LSC is also providing information about where applicants may locate subgrant application forms and directions for providing the information required to apply for a subgrant.

DATES: See SUPPLEMENTARY INFORMATION section for application dates.

ADDRESSES: Legal Services Corporation—Office of Compliance and Enforcement, 3333 K Street NW, Third Floor, Washington, DC 20007-3522.

FOR FURTHER INFORMATION CONTACT: Megan Lacchini, Office of Compliance and Enforcement at lacchinim@lsc.gov or (202) 295-1506 or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on LSC's website.” 45 CFR 1627.4(b). This Notice and the publication of the Subgrant Application Forms on LSC's website satisfy § 1627.4(b)'s notice requirement for the Basic Field Grant program. Only current or prospective recipients of LSC Basic Field Grants may apply for approval of a subgrant.

Applications for approval to make subgrants of calendar year 2020 Basic Field Grant funds will be available the week of April 22, 2019. Applications must be submitted through LSC Grants at https://lscgrants.lsc.gov. Applicants must submit their applications by 5:00 p.m. E.D.T. on the due date identified below.

Applicants must submit applications for approval to make subgrants in conjunction with their applications for 2020 Basic Field Grant funding. 45 CFR 1627.4(b)(1). The deadlines for application submissions are as follows:

• June 3, 2019 for applicants that have not had an LSC Program Quality Visit (PQV) since January 1, 2017 and for applicants who are not current LSC recipients;

• June 10, 2019 for applicants that have had a PQV since January 1, 2017, have received a final PQV report by April 30, 2019, and are the only applicant for the service area;

• August 5, 2019 for applicants that have had a PQV since January 1, 2017, have received a final PQV report during the period May 1, 2019 through July 1, 2019, and are the only applicant for the service area.

The deadlines for the submission of final and signed subgrant agreements are as follows:

• October 15, 2019 for applicants required to submit applications by June 3 and 10, 2019.

• November 1, 2019 for applicants required to submit applications by August 5, 2019.

Applicants may also find these deadlines on LSC's website at http://www.lsc.gov/grants-grantee-resources/our-grant-programs/basic-field-grant/basic-field-grant-key-dates.

Applicants may access the application under the “Subgrants” heading on their LSC Grants home page. Applicants may initiate an application by selecting “Initiate Subgrant Application.” Applicants must then provide the information requested in the LSC Grants data fields, located in the Subrecipient Profile, Subgrant Summary, and Subrecipient Budget screens, and upload the following documents:

• A draft Subgrant Agreement (with the required terms provided in Subgrant Agreement Template); and

• Subgrant Inquiry Form B (for new subgrants) or C (for renewal subgrants).

Applicants seeking to subgrant to an organization that is not a current LSC grantee must also upload:

• The subrecipient's accounting manual (or letter indicating that the subrecipient does not have one and why);

• The subrecipient's most recent audited financial statement (or letter indicating that the subrecipient does not have one and why);

• The subrecipient's current cost allocation policy (or letter indicating that the subrecipient does not have one and why);

• The subrecipient's current fidelity bond coverage (or letter indicating that the subrecipient does not have one);

• The subrecipient's conflict of interest policy (or letter indicating that the subrecipient does not have one); and

• The subrecipient's whistleblower policy (or letter indicating that the subrecipient does not have one)

LSC's Subgrant Agreement Template and Forms B, and C are available on LSC's website at http://www.lsc.gov/grants-grantee-resources/grantee-guidance/how-apply-subgrant.

LSC encourages applicants to use LSC's Subgrant Agreement Template as a model subgrant agreement. If the applicant does not use LSC's Template, the proposed agreement must include, at a minimum, the substance of the provisions of the Template.

Once submitted, LSC will evaluate the application and provide applicants with instructions on any needed modifications to the information, documents, or Draft Agreement provided with the application. The applicant must then upload a final and signed subgrant agreement through LSC Grants by the timeframes referenced above. This can be done by selecting “Upload Signed Agreement” to the right of the application “Status” under the “Subgrant” heading on an applicant's LSC Grants home page.

As required by 45 CFR 1627.4(b)(1)(ii), LSC will inform applicants of its decision to disapprove or approve the subgrant no later than the date LSC informs applicants of LSC's 2020 Basic Field Grant funding decisions.

Dated: April 17, 2019.
Stefanie Davis,
Assistant General Counsel.

[FR Doc. 2019-08096 Filed 4-22-19; 8:45 am]

BILLING CODE 7050-01-P